FEDERAL COMMUNICATIONS COMMISSION

47 CFR Part 73

[DA 00-2485; MM Docket No. 00-226; RM-10001.

Radio Broadcasting Services (Fair Bluff, North Carolina, Litchfield Beach, Johnsonville and Olanta, South Carolina)

AGENCY: Federal Communications Commission.

ACTION: Proposed rule.

SUMMARY: The Commission, at the request of joint petitioners Atlantic Broadcasting Co., Inc., permittee of Station WSIM, Channel 287C3, Fair Bluff, North Carolina, and The Waccamaw Neck Broadcasting Company, licensee of Station WPDT, 286A, Johnsonville, South Carolina, seeks comment on a petition for rule making proposing the reallotment of Channel 287C3 from Fair Bluff, North Carolina, to Litchfield Beach, South Carolina, as the community's first local aural transmission service, and the reallotment of Channel 286A from Johnsonville, South Carolina, to Olanta, South Carolina, as the community's first local aural transmission service. Channel 287C3 can be allotted to Litchfield Beach in compliance with the Commission's minimum distance separation requirements, with respect to domestic allotments, at petitioners' requested site, 0.4 kilometers (0.3 miles) South, at coordinates 33-27-47 NL and 79-06-05 WL. Channel 286A can be allotted to Olanta in compliance with the Commission's minimum distance separation requirements, with respect to domestic allotments, at petitioner's requested site, 4.9 kilometers (3.0 miles) East, at coordinates 33-55-38 NL and 79-52-41 WL. See Supplementary Information.

DATES: Comments must be filed on or before December 26, 2000, and reply comments on or before January 10, 2001.

ADDRESSES: Federal Communications Commission, 445 12th Street, S.W., Room TW-A325, Washington, D.C. 20554. In addition to filing comments with the FCC, interested parties in MM Docket No. 00-215 should serve petitioner, or its counsel or consultant, as follows: Gary S. Smithwick, Smithwick & Belendiuk, P.C., 1990 M Street, N.W., Suite 510,1990 M Street, N.W., Suite 510 Washington, D.C. 20036, (Counsel to Atlantic Broadcasting Co. Inc.), Stephen T. Yelverton, Yelverton Law Firm, 601 Pennsylvania Ave., N.W., Washington, DC 20004 (Counsel to Waccamaw Neck Broadcasting Company).

FOR FURTHER INFORMATION CONTACT: Victoria M. McCauley, Mass Media Bureau, (202) 418-2180.

SUPPLEMENTARY INFORMATION: This is a synopsis of the Commission's Notice of Proposed Rule Making, Docket No. 00-226, adopted October 25, 2000, and released November 3, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

Petitioners are requested to provide further information to establish that Litchfield Beach and Olanta are communities for allotment purposes. They are also asked to provide information on any public interest benefit other than provision of a first local transmission service which would justify the grant of the reallotment of Channel 286A from Johnsonville to Olanta, as it would result in the removal of the sole local transmission service at Johnsonville.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C 154, 303, 334 and 336.

§ 73.202 [Amended]

2. Section 73.202(b), the Table of FM Allotments under North Carolina is amended by removing Fair Bluff, Channel 287C3.

3. Section 73.202(b), the Table of FM Allotments under South Carolina, is amended by removing Johnsonville, Channel 286A and adding Litchfield Beach, Channel 287C3, and Olanta, Channel 286A.

Federal Communications Commission.
John A. Karousos,
Chief, Allocations Branch, Policy and Rules Division, Mass Media Bureau.

[FR Doc. 00-29626 Filed 11-17-00; 8:45 am]

BILLING CODE 6712-01-U